INTERNATIONAL TRADE COMMISSION

[Investigation No. 337-TA-395]

In the Matter of Certain EPROM, EEPROM, Flash Memory, and Flash Microcontroller Semiconductor Devices, and Products Containing Same; Notice of Decision To Deny Complainant Atmel's Petition for Modification of the Limited Exclusion Order

AGENCY: U.S. International Trade Commission.

ACTION: Notice.

SUMMARY: Notice is hereby given that the U.S. International Trade Commission has determined to deny complainant Atmel's petition to modify the limited exclusion order issued in the above-captioned investigation.

FOR FURTHER INFORMATION CONTACT: Timothy P. Monaghan, Esq., Office of the General Counsel, U.S. International Trade Commission, 500 E Street, SW., Washington, DC 20436, telephone 202-205-3152.

SUPPLEMENTARY INFORMATION: The Commission instituted this investigation on March 18, 1997, based upon a complaint filed by Atmel Corporation alleging that Sanyo Electric Co., Ltd. (“Sanyo”), Winbond Electronics Corporation of Taiwan and Winbond Electronics North America Corporation of California (collectively “Winbond”), and Macronix International Co., Ltd. and Macronix America, Inc. (collectively “Macronix”) had violated section 337 in the sale for importation, the importation, and the sale within the United States after importation of certain erasable programmable read only memory (“EPROM”), electrically erasable programmable read only memory (“EEPROM”), flash memory, and flash microcontroller semiconductor devices thereof, by reason of infringement of one or more claims of U.S. Letters Patent 4,511,811 (“the '811 patent”), U.S. Letters Patent 4,673,829 (“the '829 patent”), and U.S. Letters Patent 4,451,903 (“the '903 patent”) assigned to Atmel. 62 FR 13706 (March 21, 1997). Silicon Storage Technology, Inc. (“SST”) intervened in the investigation.

On October 27, 2000, the Commission determined that there was a violation of section 337. The Commission found that the claims in issue of the '903 patent are valid, enforceable, and infringed by the imports of respondents Sanyo and Winbond (but not respondent Macronix), and found a violation of section 337 with regard to the '903 patent as to Sanyo and Winbond. As to the '811 and '829 patents, the Commission found that the claims in issue of those patents are valid and enforceable, but not infringed by the imports of respondents Sanyo, Winbond, or Macronix, and found no violation of section 337 with regard to the '811 and '829 patents.

The Commission determined that the appropriate form of relief was a limited exclusion order prohibiting the importation of EPROMs, EEPROMs, flash memories, and flash microcontroller semiconductor devices, and circuit boards containing those semiconductor memory devices, that infringe claims 1 or 9 of the '903 patent and that are manufactured and/or imported by or on behalf of Sanyo and Winbond. The Commission also determined that the public interest factors enumerated in section 337(d) do not preclude the issuance of the limited exclusion order and that the bond during the Presidential review period should be set at $0.78 per device.

On April 16, 2001, complainant Atmel filed a petition with the Commission to modify the limited exclusion order to cover all semiconductor memory devices manufactured at all other foundries related to or licensed by intervenor SST, i.e., to cover imports from foundries in addition to Sanyo and Winbond. On April 26, 2001, Sanyo, Winbond, and the Commission's Office of Unfair Import Investigations responded to Atmel's petition. On May 7, 2001, Atmel moved for leave to reply to SST's response and attached a reply to SST's response.

This action is taken under the authority of section 337 of the Tariff Act of 1930, as amended (19 U.S.C. 1337), and section 210.76 of the Commission's Rules of Practice and Procedure, 19 CFR 210.76.

Copies of the Commission Order and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). General information concerning the Commission may also be obtained by accessing its Internet server (http://www.usitc.gov). The public record for this investigation may be viewed on the Commission's electronic docket (EDIS-ON-LINE) at http://dockets.usitc.gov/eol/public.

By order of the Commission.
Issued: July 2, 2001.
Donna R. Koehnke,
Secretary.

[FR Doc. 01-16992 Filed 7-6-01; 8:45 am]

BILLING CODE 7020-01-P